DEPARTMENT OF JUSTICE

Notice of Lodging of Consent Decree Under the Comprehensive Environmental Response, Compensation, and Liability Act

Notice is hereby given that on September 30, 2011, a proposed Consent Decree in United States of America v. Newmont USA Limited and Dawn Mining Company, LLC, Civil Action No. 05-020-JLQ, was lodged with the United States District Court for the Eastern District of Washington.

In this action the United States sought reimbursement under Section 107 of CERCLA for past costs incurred at the Midnite Mine Superfund Site, located on the Spokane Indian Reservation in Stevens County, Washington. The United States also sought a declaratory judgment under Section 113 of CERCLA for future costs to be incurred at the Site. The proposed consent decree requires Newmont USA Limited and Dawn Mining Company, LLC, to perform the cleanup selected by EPA for the Site. The cleanup will address threats due to the presence of heavy metals and elevated levels of radioactivity associated with waste rock piles and open mine pits present at the Site. Additionally, the Consent Decree requires Newmont and Dawn to reimburse EPA $18.7 million for past costs associated with the Site. The United States, on behalf of the Department of Interior, will contribute approximately $54 million toward future cleanup activities and past costs incurred by EPA and the mining companies.

The Consent Decree includes a covenant not to sue Newmont and Dawn pursuant to Sections 106, 107 and 113 of CERCLA, 42 U.S.C. 9606, 9607 & 9613, Section 7003 of the Resource Conservation and Recovery Act, 42 U.S.C. 6973, and Section 309 of the Clean Water Act, 33 U.S.C. 1319.

For thirty (30) days after the date of this publication, the Department of Justice will receive comments relating to the Consent Decree. Comments should be addressed to the Assistant Attorney General, Environment and Natural Resources Division, and either e-mailed to pubcomment-ees.enrd@usdoj.gov or mailed to Environmental Enforcement Section, U.S. Department of Justice, P.O. Box 7611, Washington, DC 20044-7611. In either case, the comments should refer to United States of America v. Newmont USA Limited, DJ. Ref. 90-11-3-1749. Commenters may request an opportunity for a public meeting in the affected area in accordance with Section 7003(d) of RCRA, 42 U.S.C. 6973(d).

During the comment period, the Consent Decree may be examined on the following Department of Justice Web site: http://www.justice.gov/enrd/Consent_Decrees.html. A paper copy of the Consent Decree may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a paper copy, please enclose a check in the amount of $94.50 (25 cents per page reproduction cost) payable to the United States Treasury or, if by e-mail or fax, please forward a check in that amount to the Consent Decree Library at the stated address.

Robert E. Maher, Jr.,
Assistant Section Chief, Environmental Enforcement Section, Environment and Natural Resources Division.

[FR Doc. 2011-26553 Filed 10-13-11; 8:45 am]

BILLING CODE 4410-15-P